DEPARTMENT OF TRANSPORTATION

Federal Aviation Administration

Deadline for Notification of Intent To Use the Airport Improvement Program (AIP) Sponsor, Cargo, and Nonprimary Entitlement Funds for Fiscal Year 2009

AGENCY: Federal Aviation Administration, DOT.

ACTION: Notice.

SUMMARY: The Federal Aviation Administration (FAA) announces February 2, 2009, as the deadline for each airport sponsor to notify the FAA whether or not it will use its fiscal year 2009 entitlement funds available under Public Law No. 110-330 to accomplish Airport Improvement Program (AIP)-eligible projects that the sponsor previously identified through the Airports Capital Improvement Plan (ACIP) process during the preceding year. If a sponsor does not declare their intention regarding the use of fiscal year 2009 entitlement funds by February 2, 2009, FAA will be unable to take the necessary actions to designate these as “protected” carryover funds; these funds will not be carried over without a legislative enactment that provides an additional AIP authorization and an extension of the FAA's spending authority from the Airport and Airway Trust Fund beyond March 31, 2009.

FOR FURTHER INFORMATION CONTACT: Mr. Frank J. San Martin, Manager, Airports Financial Assistance Division, APP-500, on (202) 267-3831.

SUPPLEMENTARY INFORMATION:

Title 49 of the United States Code, section 47105(f), provides that the sponsor of each airport to which funds are apportioned shall notify the Secretary by such time and in a form as prescribed by the Secretary, of the sponsor's intent to apply for the funds apportioned to it (entitlements). This notice applies only to those airports that have had entitlement funds apportioned to them, except those nonprimary airports located in designated Block Grant States. Sponsors intending to apply for any of their available entitlement funds, including those unused from prior years, shall submit by February 2, 2009, a written indication to the designated Airports District Office (or Regional Office in regions without Airports District Offices) that they will advertise, bid, and submit an application prior to February 11, 2009, or by the date established by the designated Airport District or Regional Office.

This notice is promulgated to expedite and prioritize the grant-making process. In the past when there has been full-year funding for AIP, the FAA has established a deadline of May 1 for an airport sponsor to declare that it will defer use of its entitlement funding. Considering that Congress has authorized the AIP program only until March 31, 2009, i.e. into the middle of a fiscal year, and uncertainty about additional statutory action before the end of the fiscal year, the FAA is establishing February 2, 2009, as the deadline for each airport sponsor to notify the FAA whether or not it will use its fiscal year 2009 entitlement funds.

The AIP grant program is operating under the requirements of Public Law 110-329, the “Consolidated Security, Disaster Assistance, and Continuing Appropriations Act, 2009”, which is a continuing resolution through March 6, 2009, and Public Law 110-330, the “Federal Aviation Administration Extension Act of 2008, Part II”, enacted on September 30, 2008, which amends 49 U.S.C. 48103, to extend AIP for a six-month period beginning October 1, 2008 and ending on March 31, 2009. The FAA's expenditure authority from the Airport and Airway Trust Fund will expire on March 31, 2009, in the absence of an additional statutory extension. Therefore, to avoid the risk of not being able to carryover funds should an additional extension not be enacted, and to allow at least three days for accounting processing time, AIP funds should be obligated in FAA's accounting records on or before March 3, 2009.

Sponsors have three options available to them regarding AIP grants during this period. First, sponsors may elect to make an application for a grant based on entitlements currently available to them. Sponsors that elect to take such a grant must submit grant applications to the FAA no later than February 11, 2009, in order to meet the March 3, 2009 obligation deadline. Second, sponsors may elect to wait until after the February 2, 2009 notification date for protection of carryover entitlements. However, if a sponsor does not declare their intention regarding the use of fiscal year 2009 entitlement funds by the February 2, 2009 deadline, FAA will be unable to take the necessary actions to designate these as “protected” carryover funds, and these funds would not be carried over without a legislative enactment that provides additional AIP authorization for fiscal year 2009 and extends the FAA's spending authority from the Airport and Airway Trust Fund beyond March 31, 2009. Third, sponsors may elect to declare their intention to carryover the entitlements prior to the February 2, 2009 deadline through sending an acceptable written notification of such intention by February 2, 2009. Unused carryover entitlements that have been deferred will be available in fiscal year 2010 as provided in current law. FAA will then issue discretionary grants from the deferred entitlement funds pursuant to the authority and limitations in section 471 17(f).

If a statutory extension beyond March 31, 2009 of the AIP program and the FAA's authority to make expenditures from the Trust Fund is enacted, additional entitlement funds may be available to sponsors. In that case, airport sponsors who did not previously declare their intention to carryover the entitlements must provide a written indication to the designated Airports District Office (or Regional Office in regions without Airports District Offices) that they will either carryover or use their fiscal year 2009 entitlements by May 1, 2009.

Issued in Washington, DC on October 21, 2008.
Benito DeLeon,
Director, FAA Office of Airport Planning and Programming.

[FR Doc. E8-25712 Filed 10-27-08; 8:45 am]

BILLING CODE 4910-13-M